DEPARTMENT OF TRANSPORTATION

Federal Aviation Administration

Notice of Release and Permanent Closure of the St. Clair Regional Airport, St. Clair, Missouri

AGENCY: Federal Aviation Administration (FAA), DOT.

ACTION: Notice of release and permanent closure of the St. Clair Regional Airport, St. Clair, Missouri.

SUMMARY: The FAA is publishing this notice of a pending action required by statute. Public Law 113-285 requires the FAA to release the City of St. Clair, Missouri, from all restrictions, conditions, and limitations on the use, encumbrance, conveyance, and closure of the St. Clair Regional Airport upon the satisfaction of certain conditions of the St. Clair Regional Airport (K39). On August 1, 2017, the City of St. Clair, Missouri provided written notice to the Federal Aviation Administration (FAA) of its intent to permanently close the St. Clair Regional Airport (K39), in St. Clair, Missouri. The City of St. Clair provided this notice to the FAA in excess of 30 days before the permanent closure. The FAA hereby publishes the City of St. Clair's notice of permanent closure of the St. Clair Regional Airport.

DATES: The permanent closure of the airport is applicable November 13, 2017.

FOR FURTHER INFORMATION CONTACT: Jim A. Johnson, FAA Central Region Airports Division, Airports Division Director, 901 Locust, Room 364, Kansas City, Missouri 64106, (816) 329-2600

SUPPLEMENTARY INFORMATION: Public Law 113-285 requires the FAA to release the City of St. Clair, Missouri, of restrictions, conditions, and limitations on the use, encumbrance, conveyance, and closure of the Airport upon the satisfaction of certain conditions of the St. Clair Regional Airport (K39). This non-towered, general aviation airport consist of approximately 79 acres and 6 based aircraft. Title 49 U.S.C. 46319 states that a public agency (as defined in section 47102) may not permanently close an airport listed in the National Plan of Integrated Airport Systems under section 47103 without providing written notice to the Administrator of the FAA at least 30 days before the date of the closure. The FAA recognizes that the City of St. Clair met this requirement on August 1, 2017.

Issued in Kansas City, Missouri, on October 6, 2017.
Jim A. Johnson,
Director, Airports Division, Central Region.

[FR Doc. 2017-22231 Filed 10-12-17; 8:45 am]

BILLING CODE 4910-13-P